DEPARTMENT OF LABOR

Mine Safety and Health Administration

Petitions for Modification

The following parties have filed petitions to modify the application of existing safety standards under section 101(c) of the Federal Mine Safety and Health Act of 1977.

1. Falkirk Mining Company (The)

[Docket No. M-2005-002-C]

The Falkirk Mining Company, 2801 1st Street SW, PO Box 1087, Underwood, North Dakota 58576 has filed a petition to modify the application of 30 CFR 77.803 (Fail safe ground check circuits on high-voltage resistance grounded systems) to its Falkirk Mine (MSHA I.D. No. 32-00491) located in Mclean County, North Dakota. The petitioner requests a modification of the existing standard to allow an alternative method of compliance when raising or lowering the boom mast at construction sites during initial Dragline assembly. This method would only be used during the boom mast raising or lowering, and the machine will not be performing mining operations when raising or lowering the boom for construction or maintenance. The procedure would also be applicable in instances of disassembly or major maintenance which require the boom to be raised or lowered. The petitioner has listed specific guidelines in this petition that would be followed to minimize the potential for electrical power loss during this critical boom procedure. The petitioner asserts that application of the proposed alternative method will not result in a diminution of safety to the miners.

Request for Comments

Persons interested in these petitions are encouraged to submit comments via Federal eRulemaking Portal: http://www.regulations.gov; E-mail: Comments@MSHA.gov; Fax: (202) 693-9441; or Regular Mail/Hand Delivery/Courier: Mine Safety and Health Administration, Office of Standards, Regulations, and Variances, 1100 Wilson Boulevard, Room 2350, Arlington, Virginia 22209. All comments must be postmarked or received in that office on or before March 4, 2005. Copies of these petitions are available for inspection at that address.

Dated at Arlington, Virginia this 26th day of January 2005.
Rebecca J. Smith,
Acting Director, Office of Standards, Regulations, and Variances.

[FR Doc. 05-1870 Filed 2-1-05; 8:45 am]

BILLING CODE 4510-43-P